DEPARTMENT OF ENERGY

Federal Energy Regulatory Commission

[Docket Nos. ER15-1344-001, ER15-1344-002, ER15-1387-001]

PJM Interconnection, L.L.C.; PJM Interconnection, L.L.C.; Potomac Electric Power Company; Notice Inviting Post-Technical Conference Comments

On November 12, 2015, Federal Energy Regulatory Commission (Commission) staff conducted a technical conference to understand PJM Interconnection, L.L.C's (PJM) application of its Order No. 1000-compliant ¹ transmission planning process to local transmission facilities in PJM's Regional Transmission Expansion Plan (RTEP). All interested persons are invited to file post-technical conference comments on the topics discussed during the technical conference, including:

¹ Transmission Planning and Cost Allocation by Transmission Owning and Operating Public Utilities, Order No. 1000, FERC Stats. & Regs. ¶ 31,323 (2011), order on reh'g, Order No. 1000-A, 139 FERC ¶ 61,132, order on reh'g, Order No. 1000-B, 141 FERC ¶ 61,044 (2012), aff'd sub nom. S.C. Pub. Serv. Auth. v. FERC, 762 F.3d 41 (D.C. Cir. 2014).

• The process for planning for individual Transmission Owner FERC-filed planning criteria in Form No. 715; ²

² See PJM, Intra-PJM Tariffs, Operating Agreement, Schedule 6 § 1.2 (e) (Conformity with NERC Reliability Standards and Other Applicable Reliability Criteria).

• the process and method PJM uses to track criteria ³ violations that drive each transmission project identified in the Subregional Local Plans and RTEP;

³ The criteria PJM uses in its regional transmission planning process include PJM planning procedures, North American Electric Reliability Corporation Reliability Standards, Regional Entity reliability principles and standards, and the individual Transmission Owner planning criteria as filed in FERC Form No. 715, and as posted on the PJM Web site. See PJM, Intra-PJM Tariffs, Operating Agreement, Schedule 6, § 1.2(e).

• the difference, if any, between local transmission maintenance and local transmission planning;

• which categories of transmission projects included in the RTEP are considered to be selected in the regional transmission plan for purposes of cost allocation;

• the process for reclassifying Supplemental Projects as Regional Projects or Subregional Projects selected in the RTEP for purposes of cost allocation, including requirements to open proposal windows for these projects;

• whether, pursuant to section 1.5.8 of its Operating Agreement, PJM should have opened a proposal window for baseline project b2582 under its current tariff and whether other factors justify the manner in which the project was planned; and

• how the transmission planning process used by each PJM transmission owner for Supplemental Projects complies with Order No. 890,⁴ specifically with respect to the coordination, openness, transparency, information exchange, comparability, and dispute resolution transmission planning principles as described by the Commission and where these processes are set forth in FERC-filed documents.

⁴ Preventing Undue Discrimination and Preference in Transmission Service, Order No. 890, FERC Stats. & Regs. ¶ 31,241, order on reh'g, Order No. 890-A, FERC Stats. & Regs. ¶ 31,261 (2007), order on reh'g, Order No. 890-B, 123 FERC ¶ 61,299 (2008), order on reh'g, Order No. 890-C, 126 FERC ¶ 61,228 (2009), order on clarification, Order No. 890-D, 129 FERC ¶ 61,126 (2009).

Commenters need not address every question and may provide comments on relevant issues other than those listed above. These comments are due no later than 5:00 p.m. Eastern Standard Time (EST) on Thursday, December 10, 2015. Reply comments are due on or before 5:00 p.m. EST January 7, 2016. The written comments will be included in the formal record of the proceeding, which, together with the record developed to date, will form the basis for further Commission action.

For more information about this Notice, please contact:

Nicole Buell, Office of Energy Market Regulation, Federal Energy Regulatory Commission, 888 First Street NE., Washington, DC 20426, (202) 502-6846, nicole.buell@ferc.gov.

Katherine Scott, Office of Energy Market Regulation, Federal Energy Regulatory Commission, 888 First Street NE., Washington, DC 20426, (202) 502-6495, katherine.scott@ferc.gov.

Ron LeComte, Office of the General Counsel, Federal Energy Regulatory Commission, 888 First Street NE., Washington, DC 20426, (202) 502-8405, ron.lecomte@ferc.gov.

Dated: November 19, 2015.
Nathaniel J. Davis, Sr.,
Deputy Secretary.

[FR Doc. 2015-29966 Filed 11-24-15; 8:45 am]

BILLING CODE 6717-01-P